DEPARTMENT OF THE INTERIOR

Bureau of Reclamation

[RR02800000, 15XR0687ND, RX.18527914.2050100]

Notice To Extend the Public Comment Period for the Bay Delta Conservation Plan/California WaterFix, Sacramento, CA; Partially Recirculated Draft Environmental Impact Report/Supplemental Draft Environmental Impact Statement

AGENCY: Bureau of Reclamation, Interior.

ACTION: Notice.

SUMMARY: The Bureau of Reclamation is extending the comment period on the Bay Delta Conservation Plan/California WaterFix (BDCP/CWA), Partially Recirculated Draft Environmental Impact Report/Supplemental Draft Environmental Impact Statement (RDEIR/SDEIS). In response to public requests, the comment period is being extended for an additional 60 days.

DATES: Comments on the RDEIR/SDEIS must be received or postmarked by 5 p.m. Pacific Time on October 30, 2015.

ADDRESSES: To view or download the RDEIR/SDEIS, or for a list of locations to view hardbound copies, go to www.baydeltaconservationplan.com.

You may submit written comments by one of the following methods:

1. By email: Submit comments to BDCPComments@icfi.com.

2. By hard-copy: Submit comments by U.S. mail, to BDCP/WaterFix Comments, P.O. Box 1919, Sacramento, CA 95812.

FOR FURTHER INFORMATION CONTACT: Ms. Michelle Banonis, Bureau of Reclamation, (916) 930-5676.

SUPPLEMENTARY INFORMATION: On July 10, 2015, the Notice of Availability for this document was announced in the Federal Register (80 FR 39797) and the original 45-day public comment period was to close on August 31, 2015 based on when EPA announced the availability of the BDCP/CWA RDEIR/SDEIS (80 FR 42491). In response to requests from the public, the comment period is being extended for an additional 60 days. The comment period will now officially close on October 30, 2015, at 5 p.m. Pacific Time.

Background

For background information, see the July 10, 2015, Federal Register notice (80 FR 39797).

Public Comments

Submitting comments to the email and hard-copy addresses identified in the ADDRESSES section of this notice will constitute effective filing of the California Environmental Quality Act comments on the EIR portion of the RDEIR/SDEIS. The Bureau of Reclamation is furnishing this notice to allow other agencies and the public an extended opportunity to review and comment on these documents. All comments received will become part of the public record for this action.

Public Disclosure

Before including your address, phone number, email address, or other personal identifying information in your comment, you should be aware that your entire comment—including your personal identifying information—may be made publicly available at any time. While you may ask us in your comment to withhold your personal identifying information from public review, we cannot guarantee that we will be able to do so.

Dated: July 29, 2015.
Pablo R. Arroyave,
Deputy Regional Director, Mid-Pacific Region.

[FR Doc. 2015-20839 Filed 8-21-15; 8:45 am]

BILLING CODE 4332-90--P